ENVIRONMENTAL PROTECTION AGENCY

[EPA-HQ-OPP-2010-0306; FRL-8873-8]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows an August 25, 2010 Federal Register Notice of Receipt of Requests from the registrants listed in Table 2 of Unit II. to voluntarily cancel these product registrations. In the August 25, 2010 notice, EPA indicated that it would issue an order implementing the cancellations, unless the Agency received substantive comments within the 180-day comment period that would merit its further review of these requests, or unless the registrants withdrew their requests. The Agency received comments on the notice but these comments were exclusively on the public health mosquitocide uses. Consequently, the public health pesticide products containing resmethrin have been removed from this final cancellation order and will be addressed separately from other resmethrin products. Further, the registrants did not withdraw their requests. Accordingly, EPA hereby issues in this notice a cancellation order granting the requested cancellations. Any distribution, sale, or use of the products subject to this cancellation order is permitted only in accordance with the terms of this order, including any existing stocks provisions.

DATES: The cancellations are effective June 1, 2011.

FOR FURTHER INFORMATION CONTACT: Bonnie Adler, Pesticide Re-evaluation Division (7508P), Office of Pesticide Programs, Environmental Protection Agency, 1200 Pennsylvania Ave., NW., Washington, DC 20460-0001; telephone number: (703) 308-8523; fax number: (703) 308-8090; e-mail address: adler.bonnie@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2010-0306. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What action is the agency taking?

This notice announces the cancellation, as requested by registrants, of 121 products registered under FIFRA section 3. These registrations are listed in sequence by registration number in Table 1 of this unit.

Table 1—Product Cancellations
Registration No. | Product name | Chemical
000004-00312 | Houseplant Helper | Resmethrin.
000004-00337 | Bonide Insect Fog | Resmethrin.
000004-00373 | Bonide Flying and Crawling Insect Spray | Resmethrin, Piperonyl Butoxide, Pyrethrins.
000004-00418 | Bonide Pressurized Spray Insecticide 0.25% | Resmethrin.
000239-02476 | Othro Systemic Rose & Floral Spray | Resmethrin, Acephate, Triforine
000419-00178 | Burgess Insect Fog Fogging Insecticide with Pyrethroid | Resmethrin.
000432-00555 | SBP-1382 Insecticide 4.22 MF Solvent Dilutable Concentrate Formula I | Resmethrin.
000432-00595 | SBP-1382 Insecticide Concentrate, 40% Formula I | Resmethrin.
000432-00596 | SBP-1382 Insecticide Concentrate, Dilutable Concentrate Formula I | Resmethrin.
000432-00634 | Respond with SBP-1382 Liquid Insecticide Spray 0.5% Formula III | Resmethrin.
000432-00635 | SBP-1382 3% Multipurpose Spray | Resmethrin.
000432-00719 | SCOURGE Insecticide with SPB-1382/PBO 1.5 + 4.5% Formula II | Resmethrin, Piperonyl Butoxide.
000432-01097 | SYNTHRIN 40% Mosquito Formulation | Resmethrin.
000432-01100 | PY-SY Concentrate | Resmethrin, Pyrethrins.
000432-01135 | Synthrin .5% Liquid | Resmethrin.
000432-01140 | Synthrin Plus Pyrenone 415 M.A.G.C | Resmethrin, Piperonyl Butoxide, Pyrethrins.
000432-01167 | Turbicide Pest Control System with Synthrin Butacide | Resmethrin, Piperonyl Butoxide.
000432-01246 | Aqua-SCOURGE | Resmethrin, Piperonyl Butoxide.
000498-00116 | Chase-MM Flying Insect Killer Formula 2 | Resmethrin, d-trans-Chrysanthemum monocarboxylic ester of dl-2-allyl-4-hydroxy-3-methyl-2-cyclopenten-1-one.
000498-00117 | Chase-MM House and Garden Insect Killer Formula 3 | Resmethrin, d-trans-Chrysanthemum monocarboxylic ester of dl-2-allyl-4-hydroxy-3-methyl-2-cyclopenten-1-one.
000498-00142 | Spray PAK Flea and Tick Killer for Cats & Dogs with Deodorant | Resmethrin.
000655-00778 | PRENTOX Resmethrin 3% | Resmethrin.
000655-00779 | PRENTOX Resmethrin 0.5% RTU | Resmethrin.
000655-00787 | PRENTOX Resmenthin EC3 | Resmethrin.
001543-00008 | Absorbine Supershield II Fly Repellent | Resmethrin, Butoxypolypropylene glycol.
001543-00009 | Absorbine Concentrated Fly Repellent | Resmethrin, Butoxypolypropylene glycol.
002724-00527 | SPEER Home and Garden Pressurized Spray | Resmethrin, d-trans-Chrysanthemum monocarboxylic ester of dl-2-allyl-4-hydroxy-3-methyl-2-cyclopenten-1-one.
003862-00080 | TERMINATOR | Resmethrin.
005481-00154 | SBP-1382—2 E. C | Resmethrin.
007056-00180 | CSA Aerosol Insecticide Formula Seven | Resmethrin.
008536-00031 | Premium Grade Card-O-SectT #25 | Resmethrin.
008536-00032 | NE-1 Insecticide | Resmethrin.
008536-00034 | Cardinal 3% ULV Insecticide | Resmethrin.
028293-00095 | Unicorn Thermfog RTU | Resmethrin.
028293-00100 | Unicorn Wasp & Hornet Killer | Resmethrin.
028293-00107 | Unicorn Liquid Insect Killer No. 2 | Resmethrin.
028293-00152 | Unicorn Flea & Tick Spray IV | Resmethrin, d-trans-Chrysanthemum monocarboxylic ester of dl-2-allyl-4-hydroxy-3-methyl-2-cyclopenten-1-one.
040391-00004 | Resmethrin Insect Spray | Resmethrin.
040391-00005 | AUTO FOG-5 | Resmethrin.
040391-00011 | AUTO FOG-10 | Resmethrin.
040391-00012 | AUTO FOG-30 | Resmethrin.
044446-00008 | Duel Flying & Crawling Insect Killer | Resmethrin.
044446-00019 | HAWK Thermfog | Resmethrin.
045385-00027 | Fogging Insecticide | Resmethrin.
045385-00078 | CENOL Mill Spray with SBP-1382 | Resmethrin.
045385-00080 | CENOL Kill Quick 2% Emulsifiable Concentrate | Resmethrin.
045385-00081 | CENOL Liquid House Plant Insecticide | Resmethrin, Piperonyl Butoxide, Pyrethrins.
046579-00002 | Resmethrin 5 Contact and Space Spray | Resmethrin.
046579-00009 | Resmethrin 1 Contact and Space Spray | Resmethrin.
046579-00010 | Resmethrin ULV 3-9 Multipurpose Spray | Resmethrin, Piperonyl Butoxide.
046579-00011 | Resmethrin 5-1.5 Contact and Space Spray | Resmethrin, Piperonyl Butoxide.
046579-00012 | Resmethrin ULV 3 Multipurpose Spray | Resmethrin.
046813-00061 | Wasp & Hornet Killer II | Resmethrin.
047000-00079 | Flyers Insecticide | Resmethrin, d-trans-Chrysanthemum monocarboxylic ester of dl-2-allyl-4-hydroxy-3-methyl-2-cyclopenten-1-one.
047000-00083 | Freez-Kill | Resmethrin.
047000-00099 | Flyer's Insecticide | Resmethrin, d-trans-Chrysanthemum monocarboxylic ester of dl-2-allyl-4-hydroxy-3-methyl-2-cyclopenten-1-one.
047000-00132 | Wasp & Hornet Insect Bomb | Resmethrin.
048668-00004 | PPP Flea and Tick Shampoo | Resmethrin.
048668-00005 | PPP Flea & Tick Spray | Resmethrin.
053883-00147 | Commercial Fogging Spray | Resmethrin.
067517-00013 | Space Mist Insecticide | Resmethrin.
073049-00078 | SBP-1382 Concentrate 40 | Resmethrin.
073049-00079 | SBP-1382 Insecticide Concentrate 15% | Resmethrin.
073049-00080 | SBP-1382 Pressurized Wasp & Hornet Spray 0.15% | Resmethrin.
073049-00081 | SBP-1382 Aqueous Pressurized Spray Insecticide 0.50% | Resmethrin.
073049-00082 | SBP-1382 Insecticide Aqueous Pressurized Spray 0.25% | Resmethrin.
073049-00083 | SBP-1382 Insecticide Aqueous Pressurized 0.35% for House & Garden | Resmethrin.
073049-00084 | Your Brand SBP-1382 Insecticide Spray 0.10 | Resmethrin.
073049-00085 | SBP-1382/Bioallethrin Aqueous Pressurized Spray | Resmethrin, d-trans-Chrysanthemum monocarboxylic ester of dl-2-allyl-4-hydroxy-3-methyl-2-cyclopenten-1-one.
073049-00087 | SBP-1382 Bioallethrin Insecticide Conc. 10%-7.5% FORMULA I | Resmethrin.
073049-00088 | SBP-1382 Aqueous Press Spray Insect. 0.25/House & Garden | Resmethrin.
073049-00089 | SBP-1382 Yard and Patio Outdoor Fogger | Resmethrin.
073049-00090 | SBP-1382 Oil Base Insecticide 0-20% | Resmethrin.
073049-00091 | Bioresmethrin Liquid Insecticide Spray 0.25% Formula I | Resmethrin.
073049-00092 | Your Brand SBP-1382/Bioallethrin (.20%+.125%) Aqueous Press. Spray for H&G | Resmethrin, S-Bioallethrin.
073049-00095 | SBP-1382/Bioallethrin Insecticide Concentrate 10%-6.25% Formula I | Resmethrin, S-Bioallethrin
073049-00097 | SBP-1382 0.35% Space and Residual Aqueous Pressurized Spray | Resmethrin.
073049-00098 | SBP-1382 Insecticide Concentrate 12% Formula I with Residual Activity | Resmethrin.
073049-00100 | SBP-1382 Insecticide Concentrate 12.5% Formula I | Resmethrin.
073049-00101 | SBP-1382 T.E.C. 6% | Resmethrin.
073049-00102 | SBP-1382/Bioallethrin Aqueous Pressurized Spray (PD 6.5) | Resmethrin, d-trans-Chrysanthemum monocarboxylic ester of dl-2-allyl-4-hydroxy-3-methyl-2-cyclopenten-1-one.
073049-00103 | SBP-1382/Bioallethrin Insecticide Concentrate 8%-16% Formula I | Resmethrin, S-Bioallethrin.
073049-00106 | SBP-1382 Insecticide Transparent Emulsion Spray 0.35% | Resmethrin.
073049-00107 | ULTRATEC Insecticide W/SPB-1382 Tran. Emul. Dil. Conc. 2% | Resmethrin.
073049-00108 | SBP-1382 Aqueous Pressurized Spray Insecticide 0.25% | Resmethrin.
073049-00109 | SBP-1382 Residual Aqueous Presurized Ant and Roach Spray 0.35% | Resmethrin.
073049-00110 | SBP-1382 Insecticide Transparent Emulsion Spray 0.25% | Resmethrin.
073049-00111 | SBP-1382 Liquid Spray 0.50% | Resmethrin.
073049-00112 | SBP-1382 Liquid Insecticide Spray 0.5% Formula I | Resmethrin.
073049-00113 | Vectrin Four-Plus-One | Resmethrin, Piperoyl Butoxide, Pyrethrins.
073049-00131 | SBP-1382 Insecticide Emulsifiable Concentrate 26% | Resmethrin.
073049-00132 | SBP-1382 Insecticide Emulsfiable 26% Formula I For Repackaging Use | Resmethrin.
073049-00133 | SBP-1382 Concentrate 16% Formula III | Resmethrin.
073049-00134 | SBP-1382 Insecticide Concentrate, 40% Formula II | Resmethrin.
073049-00135 | SBP-1382/Esbioallethrin/P.B.O Insecticide Aq. Press Spray 0.20% + 0.10% + | Resmethrin, Piperoyl Butoxide, d-trans-Chrysanthemum monocarboxylic ester of dl-2-allyl-4-hydroxy-3-methyl-2-cyclopenten-1-one.
073049-00140 | Crossfire Concentrate 1 W/SBP-1382/Esbioth./Pip.But. 8.34%-4.17%-16.67% For.I | Resmethrin, Piperoyl Butoxide, d-trans-Chrysanthemum monocarboxylic ester of dl-2-allyl-4-hydroxy-3-methyl-2-cyclopenten-1-one.
073049-00142 | SBP-1382 Oil Base Insecticide 0.20% Formula III | Resmethrin.
073049-00143 | SBP-1382 Liquid Insecticide Spray 0.25% Formula III | Resmethrin.
073049-00144 | SBP-1382 Insecticide Press. Spray 0.25% Formula III for Wasps & Hornet | Resmethrin.
073049-00148 | SBP-1382/Esbiothrin/P.B. Insecticide Conc. 3%-4.5%-18% Formula II | Resmethrin, Piperoyl Butoxide, d-trans-Chrysanthemum monocarboxylic ester of dl-2-allyl-4-hydroxy-3-methyl-2-cyclopenten-1-one.
073049-00164 | Tetralate Butacide (15-7.5-15) W-B Concentrate | Resmethrin, Tetramethrin, Piperoyl Butoxide.
073049-00165 | Tetralate-Butacide Insect Killer WBA N109 | Resmethrin, Tetramethrin, Piperoyl Butoxide.
073049-00190 | SBP-1382/PYR./P.B.O. Transparent Emuls. Spray 0.08 + 0.02 + 0.02% | Resmethrin, Piperoyl Butoxide, Pyrethrins.
073049-00206 | Blanco 0.2 Liquid Insecticide Spray | Resmethrin.
073049-00207 | Ford's SBP-1382 Insecticide Transparent Emulsion Spray 0.25% | Resmethrin.
073049-00208 | CSA House and Garden Spray | Resmethrin.
073049-00209 | Ford's Commercial Spray | Resmethrin.
073049-00230 | NIA 17370 Insecticide Spray 0.05 | Resmethrin.
073049-00231 | Synthrin Aqueous Pressurized Spray Insecticide 0.50 | Resmethrin.
073049-00232 | Synthrin House and Garden Insecticide Spray 0.25% | Resmethrin.
073049-00233 | Tetralate 25-10.6 WB | Resmethrin, Tetramethrin.
073049-00234 | Tetramethrin 2.5 FMC 17370 1.06 DWB Concentrate | Resmethrin, Tetramethrin.
073049-00255 | Tetralate Multipurpose Insect Killer | Resmethrin, Tetramethrin.
073049-00259 | Tetralate 2.0-0.44 WB | Resmethrin, Tetramethrin.
073049-00260 | Tetramethrin 26.64 NIA 17370 5.85 WB Concentrate | Resmethrin, Tetramethrin.
073049-00262 | Tetralate General Purpose 0.25%-0.25% Insect Killer | Resmethrin, Tetramethrin.
073049-00263 | Tetralate 2.5-2.5 WB | Resmethrin, Tetramethrin.
073049-00264 | Tetralate 16.670-7.0655 | Resmethrin, Tetramethrin.
073049-00265 | Tetralate 20.84-20.84 W.B. | Resmethrin, Tetramethrin.
073049-00276 | Synthrin House and Garden Insecticide 0.25% | Resmethrin.
073049-00357 | SBP-1382 Micro-Min Insecticide Spray 0.5% with Mineral Oil | Resmethrin.
073049-00358 | SBP-1382 Insecticide Concentrate 3% | Resmethrin.
073049-00372 | Synthrin Technical with Antioxidant Insecticide | Resmethrin.
073049-00381 | Exterm-A-Vape | Resmethrin.
074621-00002 | Bug Stomper 4-3 | Resmethrin, d-trans-Chrysanthemum monocarboxylic ester of dl-2-allyl-4-hydroxy-3-methyl-2-cyclopenten-1-one.
081038-00001 | Skeet-Daddle Fogging Insecticide | Resmethrin.
082277-00001 | RG Vaporizing Aerosol | Resmethrin.
FL910017 | SBP-1382 Insecticide 40 MF Solvent Dil. Conc. Form. 1 | Resmethrin.

Table 2 of this unit includes the names and addresses of record for all registrants of the products in Table 1 of this unit, in sequence by EPA company number. This number corresponds to the first part of the EPA registration numbers of the products listed in Table 1 of this unit.

Table 2—Registrants of Cancelled Products
EPA Company No. | Company name and address
000004 | Bonide Products, Inc., Agent Registrations By Design, Inc., P.O. Box 1019, Salem, VA 24153-3805.
000239 | The Scotts Company, 14111 Scottslawn Rd., Marysville, OH 43041.
000419 | CTX Cenol, 7210 Red Rd., Suite 206A, Miami, FL 33143.
000432 | Bayer Environmental Science, P.O. Box 12014, Research Triangle Park, NC 27709.
000498 | Chase Products Co., P.O. Box 70, Maywood, IL 60153.
000655 | Prentiss, Inc., 3600 Mansell Rd, Suite 350, Alpharetta, GA 30022.
001543 | W.F. Young, Inc., 302 Benton Dr., East Longmeadow, MA 01028.
002724 | Wellmark International, 1501 E. Woodfield Rd, Suite 200, West Schaumburg, IL 60173.
003862 | ABC Compounding Co., Inc., P.O. Box 16247, Atlanta, GA 30321-0247.
005481 | Amvac Chemical Corporation, 4695 MacArthur Ct., Suite 1250, Newport Beach, CA 92660.
007056 | IQ Products Co., 16212 State Hwy 249, Houston, TX 77086-1014.
008536 | Soils Corporation, P.O. Box 782, Hollister, CA 95024-0782.
028293 | Phaeton Corporation, Agent Registrations By Design, Inc. P.O. Box 1019, Salem, VA 24153.
040391 | Entech Systems Corporation, 509 Tower Valley Dr., Hillsboro, MO 63050.
044446 | Quest Chemical Corporation, 12255 F.M. 529 Northwoods Industrial Park, Houston, TX 77041.
045385 | CTX Cenol, 7210 Red Road, Suite 206A, Miami, FL 33143.
046579 | Dickson Chemical Company, Inc., 2110 S Prairie St, Stuttgart, AR 72160.
046813 | K-G Packaging Company, 316 Highland Ave, Hartford, WI 53027.
047000 | Chem-Tech, LTD., 4515 Fleur Dr. 303, Des Moines, IA 50321.
048668 | Professional Pet Products, 1873 N.W. 97th Ave., Miami, FL 33172.
053883 | Control Solutions Inc., 427 Hide Away Circle, Cub Run, KY 42729.
067517 | PM Resources, Inc., 13001 Saint Charles Rock Rd., Bridgeton, MO 63044.
073049 | Valent BioSciences Corporation, 870 Technology Way, Libertyville, IL 60048.
074621 | Bug Stomper II, LLC., P.O. Box 704, Springhill, LA 71075.
081038 | ICR Labs., 1330 Dillon Heights Ave., Baltimore, MD 21228-1199.
082277 | Earthfire Corp., P.O. Box 12398, Scottdsdale, AZ 85267.
FL910017 | Lee County Mosquito Control District, P.O. Box 60005, Fort Myers, FL 33096.

III. Summary of Public Comments Received and Agency Response to Comments

The resmethrin docket was open for a 180-day comment period beginning on August 25, 2010. During that time, four comments were received on the Requests to Voluntarily Cancel Certain Pesticide Registrations. The comments were from two Florida counties, the IR-4 Project in New Jersey, and ADAPCO, a business that provides mosquito control products and equipment. The comments were exclusively on the public health uses of resmethrin and are summarized in this unit.

Comments on the Public Health Mosquitocide Use

1. Comments From the IR-4 Project. IR-4 commented that the number of pesticides available to control mosquitoes is limited, and that temephos is also being voluntarily cancelled at this time. They also commented that the Food Quality Protection Act created mechanisms to prevent public health pesticides from being driven off the market solely due to data needs. They point out that the proposed cancellation is voluntary, driven not by risk but rather by the small market and the high cost of data generation. Finally, IR-4 requests a 15-month moratorium on any regulatory action that would result in the loss of resmethrin or any other active ingredient defined as a public health pesticide by FQPA.

2. EPA Response. EPA is currently reviewing the data supporting resmethrin use as a public health pesticide. A separate Federal Register Notice (75 FR 28019, May 19, 2010) (FRL-8825-7), announced the receipt of requests to voluntarily cancel those resmethrin products registered for use in wide area mosquito abatement. A number of entities which commented on that notice are currently coordinating to develop a Pest Management Strategic Plan to support the continued registration of resmethrin for public health use. Consequently, certain public health pesticide products containing remethrin have been removed from this final cancellation order and will be addressed separately from other resmethrin products.

3. Comments From County Mosquito Districts. St. Lucie County and Manatee County both commented that the loss of mosquitocide vector control chemicals will result in increased public health risks due to mosquito-borne illnesses. Both pointed out that resmethrin is highly effective and has positive environmental attributes such as short-half life, no toxic metabolites, and minimal non-target impacts. St. Lucie County noted that resmethrin causes less allergic reaction in pesticide-sensitive individuals, and Manatee County maintained that resmethrin is one of few chemicals available for large scale Ultra Low Volume (ULV) adulticiding activities.

4. EPA Response. See previous response. EPA recognizes the importance of public health pesticides and is addressing resmethrin public health use products separately.

5. Comments From ADAPCO. ADAPCO commented on the danger of resistance development if more mosquitocide products are cancelled and operations are forced to depend on only a few options in chemistry. They noted that resmethrin can be used in environmentally sensitive areas against West Nile Virus, Eastern Equine Encephalitis, and other vector-borne diseases, most often when efficacy is not achieved with cheaper formulations.

6. EPA Response. See previous response. EPA recognizes the importance of public health pesticides and is addressing resmethrin public health use products separately. Several resmethrin products included in the August 25, 2010 (75 FR 52330) (FRL-8838-8) Federal Register Notice, specifically the public health uses, have been removed from this final cancellation order and will be addressed separately as noted in this Unit above. The remaining products will thus be cancelled per this notice.

IV. Cancellation Order

Pursuant to FIFRA section 6(f), EPA hereby approves the requested cancellations of the registrations identified in Table 1 of Unit II. Accordingly, the Agency hereby orders that the product registrations identified in Table 1 of Unit II are canceled. The effective date of the cancellations that are subject of this notice is June 1, 2011. Any distribution, sale, or use of existing stocks of the products identified in Table 1 of Unit II. in a manner inconsistent with any of the provisions for disposition of existing stocks set forth in Unit VI. will be a violation of FIFRA.

V. What is the Agency's authority for taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 25, 2010. The comment period closed on February 22, 2011.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until December 31, 2012. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: May 23, 2011.
Richard P. Keigwin, Jr.,
Director, Pesticide Re-evaluation Division, Office of Pesticide Programs.

[FR Doc. 2011-13579 Filed 5-31-11; 8:45 am]

BILLING CODE 6560-50-P